FEDERAL COMMUNICATIONS COMMISSION

47 CFR Part 73

[DA 03-3874; MB Docket No. 03-23 RM-10633]

Radio Broadcasting Services; Conway and Vilonia, AR

AGENCY: Federal Communications Commission.

ACTION: Final rule.

SUMMARY: In response to a Notice of Proposed Rulemaking, 68 FR 7964 (February 19, 2003), this document grants a petition for rulemaking filed by Creative Media, Inc, licensee of Station KASR(FM), proposing to substitute Channel 224C3 for Channel 224A at Conway, Arkansas, reallot Channel 224C3 from Conway to Vilonia, Arkansas as the community's first local aural transmission service, and modify the license for Station KASR(FM) to reflect the changes. Channel 224C3 is reallotted from Conway to Vilonia, Arkansas, at Creative's requested site 12.7 kilometers (7.9 miles) east of the community at coordinates 35-05-02 NL and 92-04-59 WL.

DATES: Effective January 23, 2004.

FOR FURTHER INFORMATION CONTACT: Victoria M. McCauley, Media Bureau, (202) 418-2180.

SUPPLEMENTARY INFORMATION: This is a synopsis of the Commission's Report and Order, MB Docket No. 03-23, adopted December 3, 2003, and released December 8, 2003. The full text of this Commission decision is available for inspection and copying during normal business hours in the FCC Reference Center (Room 239), 445 12th Street SW., Washington, DC. This document may also be purchased from the Commission's duplicating contractor, Qualex International, Portals II, 445 12th Street SW., Room CY-B402, Washington, DC 20554, telephone (202) 863-2893, facsimile (202) 863-2898, or via e-mail qualexint@aol.com.

List of Subjects in 47 CFR Part 73

Radio, Radio broadcasting.

Part 73 of title 47 of the Code of Federal Regulations is amended as follows:

PART 73—RADIO BROADCAST SERVICES

1. The authority citation for part 73 continues to read as follows:

Authority: 47 U.S.C. 154, 303, 334, and 336.

§ 73.202 [Amended]

2. Section 73.202(b), the Table of FM Allotments under Arkansas, is amended by removing Channel 224A at Conway and by adding Vilonia, Channel 224C3.

Federal Communications Commission.
John A. Karousos,
Assistant Chief, Audio Division, Media Bureau.

[FR Doc. 03-31596 Filed 12-22-03; 8:45 am]

BILLING CODE 6712-01-P